DEPARTMENT OF TRANSPORTATION

Federal Aviation Administration

Notice of Intent To Rule on Application 03-09-C-00-CMX To Impose and Use the Revenue From a Passenger Facility Charge (PFC) at Houghton County Memorial Airport, Hancock, Michigan

AGENCY: Federal Aviation Administration (FAA), DOT.

ACTION: Notice of intent to rule on application.

SUMMARY: The FAA proposes to rule and invites public comment on the application to impose and use the revenue from a PFC at Houghton County Memorial Airport under the provisions of the 48 U.S.C. 40117 and part 158 of the Federal Aviation Regulations (14 CFR part 158).

DATES: Comments must be received on or before February 27, 2003.

ADDRESSES: Comments on this application may be mailed or delivered in triplicate to the FAA at the following address: Federal Aviation Administration, Detroit Airports District Office, Willow Run Airport, East, 8820 Beck Road, Belleville, Michigan 48111. The application may be reviewed in person at this location.

In addition, one copy of any comments submitted to the FAA must be mailed or delivered to Ms. Sandra D. LaMothe, Airport Manager, Houghton County Memorial Airport at the following address: Houghton County Memorial Airport, 23810 Airpark Boulevard, Suite 113, Hancock, Michigan 49913.

Air carriers and foreign air carriers may submit copies of written comments previously provided to the County of Houghton under § 158.23 of Part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Houghton County Memorial Airport under the provisions of 49 U.S.C. 40117 and part 158 of the Federal Aviation Regulations (14 CFR part 158).

On January 6, 2003, the FAA determined that the application to impose and use the revenue from a PFC submitted by the County of Houghton was substantially complete within the requirements of § 158.25 of part 158. The FAA will approve or disapprove the application, in whole or in part, not later than May 2, 2003.

The following is a brief overview of the application.

Level of the proposed PFC: $3.00.

Proposed charge effective date: September 1, 2005.

Proposed charge expiration date: May 1, 2007.

Total estimated PFC revenue: $104,266.

Brief description of proposed projects: Acquire snow removal equipment, access road lighting, directional and entrance road signage, new electrical service to Aircraft Rescue and Fire Fighting (ARFF) building, rehabilitate public address system in passenger terminal, terminal landside rehabilitation, terminal apron pavement crack sealing, terminal airside entrance rehabilitation, thermal imaging cameras for ARFF vehicles, Unicom radio procurement, electrical transformer screen wall, runway 13 protection zone hazard removal, terminal bathroom rehabilitation, PFC application reimbursement, security fencing with perimeter road.

Class or classes of air carriers, which the public agency has requested to be required to collect PFCs: The County of Houghton has not requested approval to exclude a class or classes of carriers from the PFC collection requirements.

Any person may inspect the application in person at the FAA office listed above under FOR FURTHER INFORMATION CONTACT.

In addition, any person may, upon request, inspect the application, notice and other documents germane to the application in person at the County of Houghton.

Issued in Des Plaines, Illinois on January 15, 2003.
Mark McClardy,
Manager, Planning and Programming, Airports Division, Great Lakes Region.

[FR Doc. 03-1877 Filed 1-27-03; 8:45 am]

BILLING CODE 4910-13-M